DEPARTMENT OF HEALTH AND HUMAN SERVICES

Centers for Disease Control and Prevention

Disease, Disability, and Injury Prevention and Control Special Emphasis Panel (SEP)—RFA-CK-22-003, Emerging Infections Sentinel Networks (EISN) Research; Amended Notice of Meeting

Notice is hereby given of a change in the meeting of the Disease, Disability, and Injury Prevention and Control Special Emphasis Panel (SEP)—RFA-CK-22-003, Emerging Infections Sentinel Networks (EISN) Research; January 11, 2022, 10:00 a.m.-5:00 p.m., EST, Teleconference, Centers for Disease Control and Prevention, Room 1080, 8 Corporate Square Boulevard, Atlanta, Georgia 30329-4027, in the original FRN. The meeting was published in the Federal Register on November 8, 2021, Volume 86, Number 213, page 61767.

The meeting is being amended to change the contact information and should read as follows:

FOR FURTHER INFORMATION CONTACT: Gregory Anderson, M.S., M.P.H., Scientific Review Officer, National Center for HIV, Viral Hepatitis, STD, and TB Prevention, CDC, 1600 Clifton Road NE, Mailstop US8-1, Atlanta, Georgia 30329-4027, Telephone: (404) 718-8833; Email: GAnderson@cdc.gov.

The meeting is closed to the public.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-26298 Filed 12-2-21; 8:45 am]

BILLING CODE 4163-18-P